DEPARTMENT OF COMMERCE

International Trade Administration

[A-357-812]

Honey From Argentina: Notice of Initiation of Antidumping Duty New Shipper Review

AGENCY: Import Administration, International Trade Administration, Department of Commerce.

SUMMARY: The Department of Commerce (the Department) has received a request for a new shipper review of the antidumping duty order on honey from Argentina. See Notice of Antidumping Duty Order: Honey From Argentina, 66 FR 63672 (December 10, 2001) (Order). In accordance with section 751(a)(2)(B) of the Tariff Act of 1930, as amended (the Act), and 19 CFR 351.214(d), we are initiating an antidumping duty new shipper review of D'Ambros María de los Angeles and D'Ambros María Daniela SH, an Argentine partnership doing business as Apícola Danangie (Danangie). The period of review (POR) of this new shipper review is December 1, 2010, through November 30, 2011.

DATES: Effective Date: January 31, 2012.

FOR FURTHER INFORMATION CONTACT: Patrick Edwards or Angelica Mendoza, AD/CVD Operations, Office 7, Import Administration, International Trade Administration, U.S. Department of Commerce, 14th Street and Constitution Avenue NW., Washington, DC 20230, telephone: (202) 482-8029 or (202) 482-3019, respectively.

SUPPLEMENTARY INFORMATION:

Background

On December 10, 2001, the Department published the antidumping duty order on honey from Argentina. See Order, 66 FR at 63672. Thus, the antidumping duty order on honey from Argentina has a December anniversary month. On January 3, 2012, the Department received a timely filed request dated December 31, 2011, for a new shipper review from Danangie. In its request for a review, Danangie identified itself as an exporter of the subject merchandise. For the purpose of initiating this new shipper review, the Department determines that Danangie's submission was timely filed.

Pursuant to the requirements set forth in section 751(a)(2)(B)(i) of the Act and 19 CFR 351.214(b)(2), Danangie certified that (1) it did not export subject merchandise to the United States during the period of investigation (POI) (see section 751(a)(2)(B)(i)(I) of the Act and 19 CFR 351.214(b)(2)(i)); and (2) since the initiation of the investigation, it has never been affiliated with any company that exported subject merchandise to the United States during the POI, including those companies not individually examined during the investigation (see section 751(a)(2)(B)(i)(II) of the Act and19 CFR 351.214(b)(2)(iii)(A)). Furthermore, as required by 19 CFR 351.214(b)(2), Danangie's suppliers, Luis Hauser and Nestor Pezelatto, provided certifications that (1) they did not export the subject merchandise to the United States during the POI or at any time following the POI and (2) since the initiation of the investigation, they have never been affiliated with any company that exported subject merchandise to the United States during the POI, including those companies not individually examined during the investigation. Additionally, in accordance with 19 CFR 351.214(b)(2)(iv), Danangie submitted documentation establishing the following: (1) The date on which it first shipped subject merchandise to the United States; (2) the volume of its first shipment; and (3) the date of its first sale to an unaffiliated purchaser for exportation to the United States. Danangie also stated it had no shipments to the United States during the period subsequent to its first shipment.

Initiation of Review

Based on information on the record and in accordance with section 751(a)(2)(B) of the Act, and 19 CFR 351.214(d), we find that the request submitted by Danangie meets the statutory and regulatory requirements for initiation of a new shipper review. See Memorandum to the File, through Angelica L. Mendoza, Program Manager, regarding “Initiation of the Antidumping Duty New Shipper Review: Honey From Argentina,” dated January 25, 2012 (Initiation Checklist). Accordingly, we are initiating a new shipper review of the antidumping duty order on honey from Argentina exported by Danangie, for the period December 1, 2010, through November 30, 2011. However, the Department has concerns with certain other information contained within the entry data received from U.S. Customs and Border Protection (CBP). Due to the business proprietary nature of this information, please refer to the Initiation Checklist for further discussion. The Department intends to address this issue after initiation of the new shipper review. If the Department subsequently determines, based on information collected, that a new shipper review for Danangie is not warranted, the Department may rescind the review or apply facts available pursuant to section 776 of the Act, as appropriate.

We intend to issue the preliminary results of this review no later than 180 days after the date on which this review is initiated, and the final results within 90 days after the date on which we issue the preliminary results. See section 751(a)(2)(B)(iv) of the Act and 19 CFR 351.214(h)(i).

We will instruct CBP to allow, at the option of the importer, the posting, until the completion of the review, of a bond or security in lieu of a cash deposit for certain entries of the subject merchandise exported by Danangie and produced by Luis Hauser or Nestor Pezelatto in accordance with section 751(a)(2)(B)(iii) of the Act and 19 CFR 351.214(e). Because Danangie certified that the sales of subject merchandise which form the basis for its new shipper review request were produced by Luis Hauser and Nestor Pezelatto, we will instruct CBP to permit the use of a bond only for entries of subject merchandise which Danangie exported and was produced by Luis Hauser or Nestor Pezelatto.

Interested parties may submit applications for disclosure under administrative protective order in accordance with 19 CFR 351.305 and 351.306.

This initiation and this notice are issued and published in accordance with section 751(a)(2)(B) of the Act and 19 CFR 351.214 and 351.221(c)(1)(i).

Dated: January 25, 2012.
Christian Marsh,
Deputy Assistant Secretary for Antidumping and Countervailing Duty Operations.

[FR Doc. 2012-2093 Filed 1-30-12; 8:45 am]

BILLING CODE 3510-DS-P